DEPARTMENT OF DEFENSE

Department of the Army

[Docket ID: USA-2020-HQ-0013]

Privacy Act of 1974; System of Records

AGENCY: Department of the Army (USA), Department of Defense (DoD).

ACTION: Notice of a modified System of Records.

SUMMARY: The USA is modifying an existing System of Records titled, Mobilization Common Operating Picture (MOBCOP), A0500-5 DAMO. This System of Records will become the DoD Mobilization Deployment Management Information System (MDMIS). The MDMIS supports operational exercises, deployments and mission movements of military forces. The modification will expand the System of Records for use by all the military services, remove duplication of effort, improve efficiency within the department, and enhance public transparency.

DATES: This System of Records modification is effective upon publication; however, comments on the Routine Uses will be accepted on or before August 7, 2020. The Routine Uses are effective at the close of the comment period.

ADDRESSES: You may submit comments, identified by docket number and title, by any of the following methods:

* Federal Rulemaking Portal: https://www.regulations.gov. Follow the instructions for submitting comments.

* Mail: DoD cannot receive written comments at this time due to the COVID-19 pandemic. Comments should be sent electronically to the docket listed above.

Instructions: All submissions received must include the agency name and docket number for this Federal Register document. The general policy for comments and other submissions from members of the public is to make these submissions available for public viewing on the internet at https://www.regulations.gov as they are received without change, including any personal identifiers or contact information.

FOR FURTHER INFORMATION CONTACT: Ms. Cindy Allard, Chief, Defense Privacy, Civil Liberties, and Transparency Division, 4800 Mark Center Drive, Mailbox #24, Suite 08D09, Alexandria, VA 22350-1700, or by phone at (703) 571-0070.

SUPPLEMENTARY INFORMATION: The MDMIS supports the national defense across the full spectrum of military operations, including sustained operational missions, emergent contingency operations, and service during national emergencies or in time of war. The system tracks all staffing decisions for the mobilization and deployment of every unit, military member, and civilian personnel in an automated and auditable information technology platform. In addition, the system provides business process analytics for programming and budget estimates; enables centralized management of travel and associated funding; and assists with order reconciliation.

The DoD notices for Systems of Records subject to the Privacy Act of 1974, as amended, have been published in the Federal Register and are available from the address in FOR FURTHER INFORMATION CONTACT or on the Defense Privacy, Civil Liberties, and Transparency Division website at https://dpcld.defense.gov.

The proposed system reports, as required by of the Privacy Act, as amended, were submitted on May 29, 2020, to the House Committee on Oversight and Reform, the Senate Committee on Governmental Affairs, and the Office of Management and Budget (OMB) pursuant to Section 6 of OMB Circular No. A-108, “Federal Agency Responsibilities for Review, Reporting, and Publication under the Privacy Act,” revised December 23, 2016 (December 23, 2016, 81 FR 94424).

Dated: June 25, 2020.
Aaron T. Siegel,
Alternate OSD Federal Register Liaison Officer, Department of Defense.

SYSTEM NAME AND NUMBER:

Mobilization Deployment Management Information System (MDMIS), DoD 0003

SECURITY CLASSIFICATION:

Unclassified and Classified

SYSTEM LOCATION:

U.S. Army Information Technology Agency (USAITA) Pentagon Data Center, Pentagon, Washington, DC 20310-0400.

Air Force: Amazon Web Services, Inc., P.O. Box 81226, Seattle, WA 98108-1226. Navy Personnel Command, Augmentation Management Division (PERS-46), 5720 Integrity Drive, Millington, TN 38055-4000.

Civilian personnel: Decentralized locations include the DoD Components staff and field operating agencies, major commands, installations, and activities.

SYSTEM MANAGER(S):

Chief, Mobilization Deployment Information System (MDIS) Branch, Current Operations Division, Headquarters, Department of the Army, G3/5/7, Army Operations Center, Washington, DC 20310-0400.

Chief, War Planning and Policy Division, Headquarters, Department of the Air Force, Pentagon, Washington, DC 20330-1670.

Policy Official, Commander, Navy Personnel Command (PERS-4G), 5720 Integrity Drive, Millington, TN 38055-4000.

The Privacy Act responsibilities concerning access, amendment, and disclosure of the records within this system notice have been delegated to the employing DoD components.

AUTHORITY FOR MAINTENANCE OF THE SYSTEM:

10 U.S.C. 136, Under Secretary of Defense for Personnel and Readiness; 10 U.S.C. 12301, Reserve components generally; 10 U.S.C. 12302, Ready Reserve, 10 U.S.C. 12304, Selected Reserve and certain Individual Ready Reserve members; order to active duty other than during war or national emergency; DoDD 1200.17, Managing the Reserve Components as an Operational Force; DoDI 1235.12, Accessing the Reserve Components (RC); Directive-type Memorandum (DTM) 17-004, Department of Defense Expeditionary Civilian Workforce; Joint Publication 1-0, Joint Personnel Support; Joint Publication 3-0, Joint Operations; Joint Publication 4-05, Joint Mobilization Planning; and E.O. 9397 (SSN), as amended.

PURPOSE(S) OF THE SYSTEM:

The MDMIS supports military forces in operational exercises, deployments and mission movements. The system tracks staffing decisions for the mobilization and deployment of every unit and military member in an automated and auditable information technology platform. The system provides end-to-end command visibility and control of integrated augmentation processes and automated work-flow for requesting manpower requirements, approving requirements, sourcing requirements, and writing orders for requirements, tracking, accounting, and performing data collection, and coordinating during activation/deactivation.

CATEGORIES OF INDIVIDUALS COVERED BY THE SYSTEM:

All armed services personnel, including National Guard and Reserve components and DoD civilian personnel.

CATEGORIES OF RECORDS IN THE SYSTEM:

Name; Social Security Numbers; DoD Identification (DoD ID) number; passport information, telephone number(s); emails; address(es); marital status; birth date; place of birth; gender; race and ethnic origin; sponsoring and beneficiary information. Employment: grade, wage, pay status; position; unit of assignment; individual personnel and military service records; education information; language/foreign language qualifications, security clearance information; augmentation type. Medical readiness information: Physical profile qualification and limitations; disability determinations.

RECORD SOURCE CATEGORIES:

Individuals; Integrated Total Army Personnel Database system (iTAPDB); Air Expeditionary Forces (AEF) Online; Air Force Mobilization Management System (AFMMS); Air Reserve Component Operational Requirements Tracker (ARCORT), Air Reserve Orders Writing System (AROWS), Air Reserve Orders Writing System—Reserves (AROWS-R), Deliberate and Crisis Action Planning and Execution Segments (DCAPES), Defense Enrollment Eligibility Reporting System (DEERS), Defense Manpower Data Center (DMDC); Defense Travel System (DTS), Global Force Management Allocation Plan (GFMAP), GFM Toolset, Joint Capabilities Requirements Manager (JCRM), Joint Operation Planning and Execution System (JOPES), Logistics Modernization (LOGMOD), Manpower MPA Man-Day Management System (M4S), Military Personnel Data System (MilPDS); casualty incident reports; physical health assessment data; physical fitness testing results; substance abuse referrals; behavioral health profiles and official military records.

ROUTINE USES OF RECORDS MAINTAINED IN THE SYSTEM, INCLUDING CATEGORIES OF USERS AND THE PURPOSES OF SUCH USES:

In addition to those disclosures generally permitted under 5 U.S.C. 552a(b) of the Privacy Act of 1974, as amended, these records contained therein may specifically be disclosed outside the DoD as a routine use pursuant to 5 U.S.C. 552a(b)(3) as follows:

a. To contractors, grantees, experts, consultants, students, and others performing or working on a contract, service, grant, cooperative agreement, or other assignment for the Federal Government when necessary to accomplish an agency function related to this System of Records.

b. To the appropriate Federal, State, local, territorial, tribal, foreign, or international law enforcement authority or other appropriate entity where a record, either alone or in conjunction with other information, indicates a violation or potential violation of law, whether criminal, civil, or regulatory in nature.

c. To any component of the Department of Justice for the purpose of representing the DoD, or its components, officers, employees, or members in pending or potential litigation to which the record is pertinent.

d. In an appropriate proceeding before a court, grand jury, or administrative or adjudicative body or official, when the DoD or other Agency representing the DoD determines the records are relevant and necessary to the proceeding; or in an appropriate proceeding before an administrative or adjudicative body when the adjudicator determines the records to be relevant to the proceeding.

e. To the National Archives and Records Administration (NARA) for the purpose of records management inspections conducted under the authority of 44 U.S.C. 2904 and 2906.

f. To a Member of Congress or staff acting upon the Member's behalf when the Member or staff requests the information on behalf of, and at the request of, the individual who is the subject of the record.

g. To appropriate agencies, entities, and persons when (1) the DoD suspects or confirms a breach of the System of Records; (2) the DoD determines as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

h. To another Federal agency or Federal entity, when the DoD determines information from this System of Records is reasonably necessary to assist the recipient agency or entity in (1) responding to a suspected or confirmed breach or (2) preventing, minimizing, or remedying the risk of harm to individuals, the recipient agency or entity (including its information systems, programs and operations), the Federal Government, or national security, resulting from a suspected or confirmed breach.

POLICIES AND PRACTICES FOR STORAGE OF RECORDS:

Paper and Electronic storage media.

POLICIES AND PRACTICES FOR RETRIEVAL OF RECORDS:

Name, DoD ID number, and SSN.

POLICIES AND PRACTICES FOR RETENTION AND DISPOSAL OF RECORDS:

Permanent. Keep until no longer needed for conducting business, then transfer to the NARA when 25 years old.

ADMINISTRATIVE, TECHNICAL, AND PHYSICAL SAFEGUARDS:

Electronic records are maintained in a controlled facility. Physical entry is restricted by the use of locks, guards, and is accessible only to authorized personnel. Access to records is limited to person(s) servicing the record in performance of their official duties and who are properly screened and cleared for need-to-know. Access to computerized data is restricted by the use of Common Access Cards (CAC) and data encryption.

RECORD ACCESS PROCEDURES:

Individuals seeking access to information about themselves contained in this System of Records should address written inquiries to the Freedom of Information Act Request Service Center of their employing DoD component. The addresses can be found here: https://www.foia.gov/#agency-search. For verification purposes, individuals should provide their full name, DoD ID Number, SORN ID number, and any details which may assist in locating records and their signature. In addition, the requester must provide a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

The DoD rules for accessing records, contesting contents, and appealing initial agency determinations are contained in 32 CFR part 310, or may be obtained from the system manager.

NOTIFICATION PROCEDURE:

Individuals seeking to determine if information about themselves is contained in this System of Records should address written inquiries to their original employing DoD component. For verification purposes, individuals should provide their full name, DoD ID Number, System of Records Notice (SORN) ID number, and any details which may assist in locating records and their signature. In addition, the requester must provide a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

EXEMPTIONS PROMULGATED FOR THE SYSTEM:

The DoD is exempting the records in the MDMIS, DoD 0003 from subsections 5 U.S.C. 552a(c)(3), (d)(1), (d)(2), (d)(3), and (d)(4). Information specifically authorized to be classified pursuant to Executive Order 13526, as implemented by DoD Instruction 5200.01 and DoD Manual 5200.01, Volumes 1 and 3, that if disclosed could damage national security. An exemption rule for this system has been promulgated in accordance with requirements of 5 U.S.C. 553(b) (1), (2), and (3), (c) and (e) and published in 32 CFR part 310. For additional information contact the system manager(s).

HISTORY:

December 6, 2013, 78 FR 73509, September 22, 2009, 74 FR 48238.

[FR Doc. 2020-14655 Filed 7-7-20; 8:45 am]

BILLING CODE 5001-06-P